DEPARTMENT OF AGRICULTURE

Food and Nutrition Service

Agency Information Collection Activities: Proposed Collection; Comment Request Form FNS-798 and FNS-798A, WIC Financial Management and Participation Report With Addendum

AGENCY: Food and Nutrition Service, USDA.

ACTION: Notice.

SUMMARY: In accordance with the Paperwork Reduction Act of 1995, this notice announces the Food and Nutrition Service's (FNS) intention to request an extension for a currently approved information collection, the WIC Financial Management and Participation Report with Addendum.

DATES: Comments on this notice must be received by March 14, 2005.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology. Comments may be sent to: Patricia N. Daniels, Director, Supplemental Food Programs Division, Food and Nutrition Service, U.S. Department of Agriculture, 3101 Park Center Drive, Room 520, Alexandria, VA 22302.

All responses to this notice will be summarized and included in the request for OMB approval, and will become a matter of public record.

FOR FURTHER INFORMATION CONTACT: Requests for additional information or copies of the information collection form and instructions should be directed to: Patricia N. Daniels, (703) 305-2749.

SUPPLEMENTARY INFORMATION: Title: WIC Financial Management and Participation Report with Addendum.

OMB Number: 0584-0045.

Expiration Date: 07-31-2005.

Type of Request: Extension of a Currently Approved Collection Form.

Abstract: Section 17(f)(4) of the Child Nutrition Act of 1966 (42 U.S.C. 1786(f)(4)) provides that “State agencies shall submit monthly financial reports and participation data to the Secretary” (See also 7 CFR 246.25(b)(1)). The WIC Financial Management and Participation Report with Addendum (FNS-798 and FNS-798A) are the forms State agencies complete to comply with this requirement. FNS and State agencies use the reported information for program monitoring, funds management, budget projections, monitoring caseload, policy development, and responding to requests from Congress and interested parties.

In addition, nonentitlement programs, such as the WIC Program, are required to conduct an annual closeout and reconciliation of grants. Departmental regulations at 7 CFR 3016.23(b) require that “[a] grantee must liquidate all obligations incurred under the award not later than 90 days after the end of the funding period (or as specified in a program regulation) to coincide with the submission of the annual Financial Status Report (SF-269).” WIC Program regulations at 7 CFR 246.17(b)(2) instruct State agencies to “submit to FNS, within 150 days after the end of the fiscal year, final fiscal year closeout reports.” The final WIC Financial Management and Participation Report (FNS-798) submitted for the year with its addendum (FNS-798A) are used as a substitute for the SF-269, because they maintain the integrity of WIC's two grant components (food and nutrition services and administration (NSA)) as well as the four NSA grant components (program management, client services, nutrition education, and breastfeeding promotion and support).

Estimate of Burden: Public reporting burden for this collection of information is estimated to average 3.115 hours per response, including the time for reviewing instructions, searching existing data sources, gathering and maintaining the data needed, and completing and reviewing the collection of information. The total annual burden on respondents was previously 4,660.04 hours. This extension includes an adjustment that adds one respondent which increases the total annual burden by 52.96 hours.

Respondents: Directors or Administrators of WIC State agencies.

Estimated Number of Respondents: 89 respondents.

Estimated Number of Responses per Respondent: Seventeen.

Estimated Total Annual Burden on Respondents: 4,713 hours.

Dated: January 5, 2005.
Roberto Salazar,
Administrator, Food and Nutrition Service.

[FR Doc. 05-562 Filed 1-11-05; 8:45 am]

BILLING CODE 3410-30-P